ENVIRONMENTAL PROTECTION AGENCY

[EPA-HQ-OPP-2006-0847; FRL-8102-8]

Colorado State Plan for Certification of Applicators of Restricted Use Pesticides; Notice of Availability

AGENCY: Environmental Protection Agency (EPA).

ACTION: Notice of intent to approve, on a contingent basis.

SUMMARY: The State of Colorado has submitted to EPA several statutory, regulatory, and programmatic amendments to its State Plan for Certification and Training of Applicators of Restricted Use Pesticides (RUPs). The amended State Plan provides details for the certification of both private and commercial pesticide applicators and subsequent enforcement of pesticide laws and regulations pursuant to the Colorado Pesticide Applicators' Act. EPA is currently responsible for certifying private applicators of RUPs in Colorado, while the Colorado Department of Agriculture is responsible for certifying commercial applicators of RUPs. EPA approval of Colorado's amended State Plan will allow Colorado to assume regulatory authority for certification of both private and commercial applicators of RUPs. In addition, the amended State Plan adds three new commercial pesticide applicator subcategories: Metam-sodium for sewer root control; wood preservation and wood products treatment; and interior plant pest control. Notice is hereby given of the intention of the Regional Administrator, Region VIII, to approve the revised Plan for the Certification of Applicators of Restricted Use Pesticides on a contingency basis, as provided at 40 CFR 171.7(b)(1)(ii). Approval of the amended State Plan is contingent upon the promulgation of revised State Rules and Regulations pertaining to the Administration and Enforcement of the Colorado Pesticide Applicators' Act on January 1, 2007. EPA is soliciting comments on the proposed amendments.

DATES: Comments must be received on or before January 22, 2007.

ADDRESSES: Submit your comments, identified by docket identification (ID) number EPA-HQ-OPP-2006-0847, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

Instructions: Direct your comments to docket ID number EPA-HQ-OPP-2006-0847. EPA's policy is that all comments received will be included in the docket without change and may be made available online at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Building), 2777 S. Crystal Drive, Arlington, VA. The hours of operation of this Docket Facility are from 8:30 a.m. to 4 p.m., Monday through Friday, excluding legal holidays. The Docket telephone number is (703) 305-5805.

FOR FURTHER INFORMATION CONTACT: Peg Perreault, Pollution Prevention, Pesticides, and Toxics Program (8P-P3T), 999 18th St., Suite 200, Denver, CO 80202-2466; telephone number: (303) 312-6286; e-mail address: perreault.peg@epa.gov.

SUPPLEMENTARY INFORMATION:

I. General Information

A. Does this Action Apply to Me?

This action is directed to the public in general. This action may, however, be of interest to those involved in agriculture and anyone involved with the distribution and application of pesticides for agricultural purposes. Others involved with pesticides in a non-agricultural setting may also be affected. In addition, it may be of interest to others, such as, those persons who are or may be required to conduct testing of chemical substances under the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified. In addition to the sources listed in this unit, you may obtain copies of the amended Colorado Certification Plan, other related documents, or additional information by contacting:

1. Peg Perreault at the address listed under FOR FURTHER INFORMATION CONTACT.

2. John Scott, Colorado Department of Agriculture, 700 Kipling St., Suite 4000, Lakewood, CO 80215; telephone number: (303) 239-4178; e-mail address: John.Scott@ag.state.co.us.

3. Richard Pont, Field and External Affairs Division (7506C), Office of Pesticide Programs, Environmental Protection Agency, 1200 Pennsylvania Ave., NW., Washington, DC 20460-0001; telephone number: (703) 305-6448; e-mail address: pont.richard@epa.gov.

II. What Action is the Agency Taking?

EPA has reviewed the revised Colorado Certification Plan and has determined that it complies with FIFRA and its implementing regulations at 40 CFR part 171. Accordingly, the Agency is announcing its intent to approve the amended State Plan on a contingency basis pending promulgation of revised Colorado Rules and Regulations Pertaining to the Administration and Enforcement of the Colorado Pesticide Applicators' Act on January 1, 2007, and is seeking public comment.

List of Subjects

Environmental protection, Education, Pests and pesticides.

Dated: December 5, 2006.
Robert E. Roberts,
Regional Administrator, Region VIII.

[FR Doc. E6-21973 Filed 12-21-06; 8:45 am]

BILLING CODE 6560-50-S